DEPARTMENT OF TRANSPORTATION

Federal Aviation Administration

Agency Information Collection Activities: Requests for Comments; Clearance of Renewed Approval of Information Collection: Procedures for Non-Federal Navigation Facilities

AGENCY: Federal Aviation Administration (FAA), DOT.

ACTION: Notice and request for comments.

SUMMARY: In accordance with the Paperwork Reduction Act of 1995, FAA invites public comments about our intention to request the Office of Management and Budget (OMB) approval to renew an information collection. The information collected is necessary to ensure that operation and maintenance of these non-Federally owned facilities is in accordance with FAA safety standards.

DATES: Written comments should be submitted by October 26, 2018.

ADDRESSES: Send comments to the FAA at the following address: Barbara Hall, Federal Aviation Administration, ASP-110, 10101 Hillwood Parkway, Fort Worth, TX 76177.

FOR FURTHER INFORMATION CONTACT: Barbara Hall by email at: Barbara.L.Hall@faa.gov; phone: 940-594-5913.

SUPPLEMENTARY INFORMATION: The collection involves the compilation of:

• Commissioning data, such as the initial standards and tolerances parameters for the aerial navigation aids (NavAids) and electrical/electronic facilities, owned and operated by non-Federal sponsors;

• Maintenance activities and operational history, such as outages and repairs, for facilities owned and operated by non-Federal sponsors; and

• The facilities' periodically verified parameters for the life of the facility.

OMB Control Number: 2120-0014.

Title: Procedures for Non-Federal Navigation Facilities.

Form Numbers: FAA Form 6000-10; FAA Form 6000-8; FAA Form 6030-1.

Type of Review: Renewal of an information collection.

Background: Title 14 CFR part 171 establishes procedures and requirements for non-Federal sponsors, (“non-Federal sponsors” refers to entities such as state and local governments, businesses, and private citizens) to purchase, install, operate, and maintain electronic NavAids for use by the flying public, in the National Airspace System (NAS). Part 171 describes procedures for receiving permission to install a facility and requirements to keep it in service. Documenting the initial parameters during commissioning is necessary to have a baseline to reference during future inspections. Another requirement is recording maintenance tasks, removal from service, and any other repairs performed on these facilities in on-site logs to have an accurate history on the performance of the facility. In addition, at each periodic inspection, recording the facilities' current parameters provides performance information for the life of the facility. Records must be kept on site and the FAA must receive copies of the logs.

Respondents: Approximately 2,600 non-Federal navigation facilities—no more than 2,600 respondents.

Frequency: Information is collected (submitted to Inspectors) on occasion.

Estimated Average Burden per Response: 13.72 hours per year.

• Form 6000-10, 1.72 hours per response

• Form 6000-8, 30 minutes per response

• Form 6030-1, 30 minutes per response

Estimated Total Annual Burden: Approximately 36,000 hours per year.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on August 22, 2018.
Robin Darden,
Management Support Specialist, Performance, Policy, and Records Management Branch, ASP-110.

[FR Doc. 2018-18504 Filed 8-24-18; 8:45 am]

BILLING CODE 4910-13-P